DEPARTMENT OF THE INTERIOR

Bureau of Indian Affairs

[167 A2100DD/AAKC001030/A0A501010.999900]

Proclaiming Certain Lands as Reservation for the Tonto Apache Tribe of Arizona

AGENCY: Bureau of Indian Affairs, Interior.

ACTION: Notice of reservation proclamation.

SUMMARY: This notice informs the public that the Assistant Secretary—Indian Affairs proclaimed approximately 292.77 acres, more or less, an addition to the reservation of the Tonto Apache Indian Tribe of Arizona on December 21, 2015.

FOR FURTHER INFORMATION CONTACT: Sharlene Round Face, Bureau of Indian Affairs, Division of Real Estate Services, 1849 C Street NW., MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 467), for the land described below. The land was proclaimed to be part of the Tonto Apache Indian Reservation of the Tonto Apache Tribe, Town of Payson, Gila County and State of Arizona.

Tonto Apache Indian Reservation

Legal Description Containing 292.77 Acres, More or Less

Parcel No. 1

Government Lots 4 and 6 and the Southeast quarter of the Southeast quarter of the Southwest quarter of Section 9; the Southwest quarter and the West half of the Southeast quarter of Section 10, all in Township 10 North, Range 10 East of the Gila and Salt River Base and Meridian, Gila County, Arizona, consisting of 272.77 acres, more or less;

Parcel No. 2

A parcel of land being the East half of the Northwest quarter of the Southeast quarter of Section 9, Township 10 North, Range 10 East of the Gila and Salt River Base and Meridian, Gila County, Arizona, more particularly described as follows:

Beginning at the Northeast corner of the Northwest quarter of the Southeast quarter being identical to A.P. No. 2 of Tract 37 of said Section 9;

Thence South 00°02′36″ West, 1,323.57 feet to the Southeast corner of the Northwest quarter of the Southeast quarter being identical to A.P. No. 3 of Tract 37 of said Section 9;

Thence North 89°50′15″ West, 659.35 feet to the Southwest corner of the East half of the Northwest quarter of the Southeast quarter of said Section 9;

Thence North 00°04′46″ West, 1,323.05 feet to the Northwest corner of the East half of the Northwest quarter of the Southeast quarter of said Section 9;

Thence South 89°53′00″ East, 658.51 feet to the true point of beginning, consisting of 20 acres, more or less.

The above described lands contain a total of 292.77 acres, more or less, which are subject to all valid rights, reservations, rights-of-way, and easements of record.

This proclamation does not affect title to the lands described above, nor does it affect any valid existing easements for public roads, highways, public utilities, railroads, and pipelines or any other valid easements or rights-of-way or reservations of record.

Dated: December 17, 2015.
Kevin K. Washburn,
Assistant Secretary—Indian Affairs.

[FR Doc. 2015-32740 Filed 12-28-15; 8:45 am]

BILLING CODE 4337-15-P